DEPARTMENT OF TRANSPORTATION

Federal Railroad Administration

[Docket No. FRA-2023-0002-N-30]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Requests (ICRs) summarized below. Before submitting the ICRs to the Office of Management and Budget (OMB) for approval, FRA is soliciting public comment on specific aspects of the activities identified in the ICRs.

DATES: Interested persons are invited to submit comments on or before December 1, 2023.

ADDRESSES: Written comments and recommendations for the proposed ICRs should be submitted on regulations.gov to the docket, Docket No. FRA-2023-0002. All comments received will be posted without change to the docket, including any personal information provided. Please refer to the assigned OMB control number for each ICR, 2130-0506 and 2130-0556, respectively, in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICRs that FRA will submit for OMB clearance as the PRA requires:

Title: Identification of Railroad Cars.

OMB Control Number: 2130-0506.

Abstract: This collection of information is associated with 49 CFR 232.3(d). Section 232.3(d)(3) conditionally excepts certain export, industrial, and other cars not owned by a railroad from part 232 compliance. It requires cars to be identified by a card attached to each side of the equipment, signed by the shipper, specifically noting that the car is being moved under the proper authority. Railroads typically use carrier bad order forms or tags for these purposes. These forms are readily available from all carrier repair facilities. FRA estimates approximately 400 cars per year, each bearing two forms or tags, are moved under this regulation.

In this 60-day notice, FRA made no adjustments to the previously approved burden hours and responses in the OMB, Office of Information and Regulatory Affairs (OIRA) inventory.¹

¹ Changes to the total cost equivalent in U.S. dollars, a category not included in the OIRA inventory, are due to updated statistics from the 2022 Surface Transportation Board (STB) Full Year Wage A&B data series.

Type of Request: Extension without change of a currently approved collection.

Affected Public: Businesses.

Form(s): N/A.

Respondent Universe: 765 railroads and freight car owners.

Frequency of Submission: On occasion.

Reported Burden:

CFR section | Respondent universe | Total annual responses | Average time per responses | Total annual burden hours | Total cost equivalent in U.S. dollar
|  | (A) | (B) | (C = A * B) | (D = C * wage rates) ²
232.3(d)(3)—Tagging | 765 railroads and freight car owners | 800 tags | 5 minutes | 67.00 | $4,496.37
Total ³ | 765 railroads and freight car owners | 800 responses | N/A | 67.00 | 4,496

Total Estimated Annual Responses: 800.

² The dollar equivalent cost is derived from the 2022 STB Full Year Wage A&B data series using employee group 400 (Maintenance of Equipment & Stores) hourly wage rate of $38.35. The total burden wage rate (straight time plus 75%) used in the table is $67.11 ($38.35 × 1.75 = $67.11).

³ Totals may not add due to rounding.

Total Estimated Annual Burden: 67 hours.

Total Estimated Annual Burden Hour Dollar Cost Equivalent: $4,496.

Title: U.S. Locational Requirement for Dispatching U.S. Rail Operations.

OMB Control Number: 2130-0556.

Abstract: Title 49 CFR part 241 requires, in the absence of a waiver, that all dispatching of United States railroad operations be performed in the United States. A railroad may, however, dispatch from a country other than the United States in an emergency situation, but only for the duration of the emergency situation.⁴ A railroad relying on this exception must provide written notification of its action to FRA as soon as practicable; such notification is not required before addressing the emergency situation. The information collected under this ICR is used as part of FRA's oversight function to help ensure that extraterritorial dispatchers comply with applicable safety regulations.

⁴ See 49 CFR 241.9(c).

In this 60-day notice, FRA made no adjustments to the previously approved burden hours and responses in the OMB, OIRA inventory.⁵

⁵ Changes to the total cost equivalent in U.S. dollars, an estimation category not included in the OIRA inventory, are due to updated statistics from the 2022 STB Full Year Wage A&B data series.

Type of Request: Extension without change of a currently approved collection.

Affected Public: Businesses.

Form(s): N/A.

Respondent Universe: 4 railroads.

Frequency of Submission: On occasion.

Reporting Burden:

CFR section | Respondent universe (railroads) | Total annual responses | Average time per responses (hours) | Total annual burden hours | Total cost equivalent in U.S. dollar
|  | (A) | (B) | (C = A * B) | (D = C * wage rates) ⁶
241.9(c)—Written notification to FRA of emergency where dispatcher outside the U.S. dispatches a railroad operation in the U.S. for the duration of the emergency | 4 | 1 notice | 8 | 8.00 | $687.44
Total ⁷ | 4 | 1 response | N/A | 8 | 687

Total Estimated Annual Responses: 1.

⁶ The dollar equivalent cost is derived from the 2022 STB Full Year Wage A&B data series using employee group 200 (Professional & Administrative) hourly wage rate of $49.10. The total burden wage rate (straight time plus 75%) used in the table is $85.93 ($49.10 × 1.75 = $85.93).

⁷ Totals may not add up due to rounding.

Total Estimated Annual Burden: 8 hours.

Total Estimated Annual Burden Hour Dollar Cost Equivalent: $687.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-21656 Filed 9-29-23; 8:45 am]

BILLING CODE 4910-06-P